DEPARTMENT OF HEALTH AND HUMAN SERVICES

Centers for Medicare & Medicaid Services

[Document Identifiers: CMS-179, CMS-10410, CMS-10463, CMS-R-74 and CMS-10558]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by July 27, 2015:

ADDRESSES: When commenting on the proposed information collections, please reference the document identifier or OMB control number. To be assured consideration, comments and recommendations must be received by the OMB desk officer via one of the following transmissions:

OMB, Office of Information and Regulatory Affairs, Attention: CMS Desk Officer, Fax Number: (202) 395-5806 OR, Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Extension of a currently approved collection; Title of Information Collection: Medicaid State Plan Base Plan Pages; Use: State Medicaid agencies complete the plan pages while we review the information to determine if the state has met all of the requirements of the provisions the states choose to implement. If the requirements are met, we will approve the amendments to the state's Medicaid plan giving the state the authority to implement the flexibilities. For a state to receive Medicaid Title XIX funding, there must be an approved Title XIX state plan. Form Number: CMS-179 (OMB control number 0938-0193); Frequency: Occasionally; Affected Public: State, Local, and Tribal Governments; Number of Respondents: 56; Total Annual Responses: 1,120; Total Annual Hours: 22,400. (For policy questions regarding this collection contact Annette Pearson at 410-786-6958).

2. Type of Information Collection Request: Extension of a currently approved collection; Title of Information Collection: Medicaid Program Eligibility Changes under the Affordable Care Act of 2010; Use: The eligibility systems are essential to the goal of increasing coverage in insurance affordability programs while reducing administrative burden on states and consumers. The electronic transmission and automation of data transfers are key elements in managing the expected insurance affordability program caseload that started in 2014. Accomplishing the same work without these information collection requirements would not be feasible. Form Number: CMS-10410 (OMB control number 0938-1147); Frequency: Occasionally; Affected Public: Individuals or Households, and State, Local, and Tribal Governments; Number of Respondents: 25,500,096; Total Annual Responses: 76,500,149; Total Annual Hours: 21,278,142. (For policy questions regarding this collection contact Brenda Sheppard at 410-786-8534).

3. Type of Information Collection Request: Revision of a currently approved collection; Title of Information Collection: Cooperative Agreement to Support Navigators in Federally-facilitated and State Partnership Exchanges; Use: Section 1311(i) of the Affordable Care Act requires Exchanges (Marketplaces) to establish a Navigator grant program as part of its function to provide consumers with assistance when they need it. Navigators will assist consumers by providing education about and facilitating selection of qualified health plans (QHPs) within Marketplaces, as well as other required duties. Section 1311(i) requires that a Marketplace operating as of January 1, 2014, must establish a Navigator Program under which it awards grants to eligible individuals or entities who satisfy the requirements to be Exchange Navigators. For Federally-facilitated Marketplaces (FFMs) and State Partnership Marketplaces (SPMs), CMS will be awarding these grants. Navigator awardees must provide weekly, monthly, quarterly, and annual progress reports to CMS on the activities performed during the grant period and any sub-awardees receiving funds. We have modified the data collection requirements for the weekly, monthly, quarterly, and annual reports that were provided in 80 FR 16687 (May 30, 2015). Form Number: CMS-10463 (OMB control number: 0938-1215); Frequency: Annually; Quarterly; Monthly; Weekly; and Quarterly; Affected Public: Private sector (Businesses or other For-profit and Not-for-profit institutions); Number of Respondents: 102; Total Annual Responses: 7,446; Total Annual Hours: 29,251. (For policy questions regarding this collection, contact Gian Johnson at 301-492-4323.)

4. Type of Information Collection Request: Extension of a currently approved collection; Title of Information Collection: Income and Eligibility Verification System Reporting and Supporting Regulations; Use: A state Medicaid agency that currently obtains and uses information from certain sources, or with more frequency than specified, could continue to do so to the extent that the verifications are useful and not redundant. An agency that has found it effective to verify all wage or benefit information with another agency or with the recipient is encouraged to continue these practices if it chooses. On the other hand, the agency may implement an approved targeting plan under 42 CFR 435.953. The agency's experience should guide its decision whether to exceed these regulatory requirements on income and eligibility verification. While states may target resources when verifying income of course, agencies are still held accountable for their accuracy in eligibility determinations. Form Number: CMS-R-74 (OMB control number 0938-0467); Frequency: Occasionally; Affected Public: State, Local, or Tribal Governments; Number of Respondents: 50; Total Annual Responses: 71; Total Annual Hours: 134,865. (For policy questions regarding this collection contact Brenda Sheppard at 410-786-8534).

5. Type of Information Collection Request: New collection (Request for a new OMB control number); Title of Information Collection: Information Collection for Machine Readable Data for Provider Network and Prescription Formulary Content for FFM QHPs; Use: We are requiring for plan years beginning on or after January 1, 2016, qualified health plan (QHP) issuers to submit provider and formulary data in a machine-readable format to HHS. As required by the Patient Protection and Affordable Care Act; HHS Notice of Benefit and Payment Parameter for 2016 (CMS-9944-P), which went on display on, November 26, 2014, QHPs in the Federally-facilitated marketplace (FFMs) are required to publish information regarding the formulary drug list and provider directory on its Web site in an HHS-specified format, in a format and at times determined by HHS. Form Number: CMS-10558 (0938-New); Frequency: Monthly; Affected Public: Private Sector; Number of Respondents: 475; Number of Responses: 36; Total Annual Hours: 79,800. (For questions regarding this collection, contact Lisa-Ann Bailey at (301) 492-4169.)

Dated: June 23, 2015.
William N. Parham, III,
Director, Paperwork Reduction Staff, Office of Strategic Operations and Regulatory Affairs.

[FR Doc. 2015-15770 Filed 6-25-15; 8:45 am]

BILLING CODE 4120-01-P